ENVIRONMENTAL PROTECTION AGENCY

[OPPT-2003-0004; FRL-7346-2]

Access to Confidential Business Information by Dyncorp Systems and Solutions LLC and its Successor, Computer Sciences Corporation

AGENCY: Environmental Protection Agency (EPA).

ACTION: Notice.

SUMMARY: The purpose of this notice is to inform the public that EPA has recently learned of a corporate merger/acquisition involving a contractor cleared for TSCA CBI access. EPA's contractor, Dyncorp Systems and Solutions LLC (DSS) requires access to CBI submitted to EPA under all sections of TSCA, to perform successfully the duties specified under existing contracts.

FOR FURTHER INFORMATION CONTACT: Colby Lintner, Regulatory Coordinator, Environmental Assistance Division (7408M), Office of Pollution Prevention and Toxics, Environmental Protection Agency, 1200 Pennsylvania Ave., NW., Washington, DC 20460; telephone number: (202) 554-1404; e-mail address: TSCA-Hotline@.epa.gov.

SUPPLEMENTARY INFORMATION:

I. General Information

A. Does this Notice Apply to Me?

This action is directed to the public in general. This action may, however, be of interest to those persons who are or may be required to conduct testing of chemical substances under TSCA. Since other entities may also be interested, the Agency has not attempted to describe all the specific entities that may be affected by this action. If you have any questions regarding the applicability of this action to a particular entity, consult the person listed under FOR FURTHER INFORMATION CONTACT.

B. How Can I Get Copies of this Document and Other Related Documents?

1. Docket. EPA has established an official public docket for this action under docket identification (ID) number OPPT-2003-0004. The official public docket consists of the documents specifically referenced in this action, any public comments received, and other information related to this action. Although a part of the official docket, the public docket does not include CBI or other information whose disclosure is restricted by statute. The official public docket is the collection of materials that is available for public viewing at the EPA Docket Center, Rm. B102-Reading Room, EPA West, 1301 Constitution Ave., NW., Washington, DC. The EPA Docket Center is open from 8:30 a.m. to 4:30 p.m., Monday through Friday, excluding legal holidays. The EPA Docket Center Reading Room telephone number is (202) 566-1744 and the telephone number for the OPPT Docket, which is located in EPA Docket Center, is (202) 566-0280.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

II. What Action is the Agency Taking?

EPA has recently been informed that the parent company to EPA contractor Dyncorp Systems and Solutions LLC (DSS), finalized a merger agreement with Computer Sciences Corporation (CSC) of El Segundo, California.

In the coming months, the DSS contracts will be amended to reflect the change of status in the contractor. Until that time, EPA continues to hold DSS, and its successor, CSC, responsible for performance, including adherence to all rules and procedures providing for the access and protection of TSCA CBI under existing contracts.

DSS has stated that from a technical performance standpoint, no changes in support of management personnel are envisioned as a result of the merger. From a contractual point of view, Dyncorp represents that it will continue contracting with EPA as the same legal entity - DSS. The merger between DSS's parent company (Dyncorp) and CSC is intended to make Dyncorp a CSC company.

At all times during this corporate acquisition or merger, all contractor employees were trained and cleared for access to TSCA CBI. In addition, all employees had signed and remained subject to the standard non-disclosure agreements required of all such persons working with TSCA CBI.

Aside from providing this notice, EPA is not immediately engaging in any other action. In the next 6 months, EPA expects that there will be an effort to modify the existing contracts with EPA and when this occurs, there will be a series of actions intended to effectuate this, including notices, as required under existing regulations.

List of Subjects

Environmental protection, Confidential business information.

Dated: February 23, 2004.
Sandra Wilkins,
Acting Director, Information Management Division, Office of Pollution Prevention and Toxics.

[FR Doc. 04-4471 Filed 2-27-04; 8:45 am]

BILLING CODE 6560-50-S